Title 3—

The President

Presidential Determination No. 2012-10 of June 25, 2012

Presidential Determination on a U.S. Export Import Bank Transaction with Vietnam

Memorandum for the Secretary of State

Pursuant to section 2(b)(2)(D) of the Export Import Bank Act of 1945, as amended, I determine that it is in the national interest of the United States for the Export Import Bank of the United States to extend a loan in the amount of approximately $125,870,890 to the Vietnam Post and Telecommunications Group, a wholly state-owned company, for the purchase of a U.S. manufactured telecommunications and television satellite.

You are authorized and directed to publish this determination in the Federal Register.

THE WHITE HOUSE,

Washington, June 25, 2012

[FR Doc. 2012-16527

Filed 7-2-12; 11:15 am]

Billing code 4710-10-P